DEPARTMENT OF ENERGY

Federal Energy Regulatory Commission

Notice of Motion for Declaratory Order, and Soliciting Comments, Motions to Intervene, and Protests

May 11, 2000.

a. Type of Filing: Motion for Declaratory Order to Determine that the New Melones Transmission Line Project is no longer primary and thus no longer requires licensing

b. Project No.: 2781.

c. Date Filed: December 1, 1999.

d. Applicant: Pacific Gas and Electric Company.

e. Name of Project: New Melones Transmission Line Project.

f. Location: The Project is located in Calaveras and Stanislaus Counties, California. The project occupies lands of the United States Bureau of Land Management and the Army Corps of Engineers.

g. Filed Pursuant to: Federal Energy Regulatory Commission Regulation, 18 CFR 385.207.

h. Applicant Contact: Kermit R. Kubitz, Pacific Gas and Electric Company, 77 Beale Street, 30th Floor, P.O. Box 7442, San Francisco, CA 94120, (415) 973-2118.

i. FERC Contact: Mr. Jack Duckworth at (202) 219-2818 or by e-mail at jack.duckworth@ferc.fed.us.

j. Deadline for filing comments, motions to intervene or protests: 45 days from the issuance date of this notice.

All documents (original and eight copies) should be filed with: David P. Boergers, Secretary, Federal Energy Regulatory Commission, 888 First Street, N.E., Washington, DC 20426.

The Commission's Rules of Practice and Procedure require all intervenors filing documents with the Commission to serve a copy of that document on each person whose name appears on the official service list for the project. Further, it an intervenor files comments or documents with the Commission relating to the merits of an issue that may affect the responsibilities of a particular resource agency, they must also serve a copy of the document on that resource agency.

k. Description of Project: The existing project consists of a 23-mile-long, double circuit 230 kV transmission line extending from the Bureau of Reclamation's Melones Powerhouse, to PG&E's Bellota-Herndon 230 kV line (now called the Bellota-Melones 230 kV line and Melones-Wilson 230 kV line). PG&E requests that the Commission determine that its New Melones Transmission Line Project is no longer a primary transmission line and thus no longer requires licensing. Approximately 17.79 acres of federal lands are used by the transmission facilities.

l. Location of the Filing: A copy of the filing is available for inspection and reproduction at the Commission's Public Reference Room, located at 888 First Street, NE, Room 2A, Washington, D.C. 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-12263 Filed 5-15-00; 8:45 am]

BILLING CODE 6717-01-M